DEPARTMENT OF LABOR

Employment and Training Administration

Notice of a Change in Status of the Extended Benefit (EB) Program for California, Colorado, Hawaii, Puerto Rico, and Washington

AGENCY: Employment and Training Administration, Labor.

ACTION: Notice.

This notice announces a changes in benefit period eligibility under the EB program that have occurred since the publication of the last notice regarding the States' EB status:

• Colorado's state law allows for the temporary adoption of the optional total unemployment rate (TUR) trigger during periods of 100% Federal financing. Recent TUR data released by the Bureau of Labor Statistics reflected Colorado's TUR as meeting the conditions necessary to be triggered “on” EB, however the state was in a mandatory 13-week “off” period beginning November 28, 2020. That mandatory “off” period was expired February 27, 2021, and as such Colorado is triggered “on” to EB effective February 28, 2021.

• The State of California enacted legislation waiving the mandatory 13-week “off” period and making the application of the TUR trigger retroactive to March 18, 2020. As such, the state will trigger back “on” a high unemployment period with an effective date of June 7, 2020.

• Based on the data submitted by Hawaii for the week ending February 28, 2021, Hawaii's 13-week insured unemployment rate (IUR) was 4.89 percent, falling below the 5.0 percent IUR threshold necessary to remain “on” EB. Therefore, the EB period for Hawaii ended on March 6, 2021. The state will remain in an “off” period for a minimum of 13 weeks.

• Based on the data submitted by Puerto Rico for the week ending February 27, 2021, Puerto Rico's 13-week IUR was 4.96 percent, falling below the 5.0 percent IUR threshold necessary to remain “on” EB. Therefore, the EB period for Puerto Rico ended on March 20, 2021. The state will remain in an “off” period for a minimum of 13 weeks.

• Based on the data submitted by Washington for the week ending February 20, 2021, Washington's 13-week IUR was 4.95 percent, falling below the 5.0 percent IUR threshold necessary to remain “on” EB. Therefore, the EB period for Washington ended on March 13, 2021. The state will remain in an “off” period for a minimum of 13 weeks.

The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

Signed in Washington, DC.
Suzan G. LeVine,
Principal Deputy Assistant Secretary for Employment and Training.

[FR Doc. 2021-06712 Filed 3-31-21; 8:45 am]

BILLING CODE 4510-FW-P